DEPARTMENT OF COMMERCE

National Oceanic and Atmospheric Administration

50 CFR Part 679

Fisheries of the Exclusive Economic Zone Off Alaska

CFR Correction

In Title 50 of the Code of Federal Regulations, Part 660 to End, revised as of October 1, 2012, on page 561, in § 679.5, the last sentence is removed from paragraph (g)(1)(i) and is added to the end of paragraph (g)(1) introductory text.

[FR Doc. 2013-16650 Filed 7-9-13; 8:45 am]

BILLING CODE 1505-01-D